DEPARTMENT OF HEALTH AND HUMAN SERVICES

National Institutes of Health

Submission for OMB Review; 30-Day comment request; Generic Clearance for Satisfaction Surveys of Customers (CSR)

SUMMARY: Under the provisions of Section 3507(a)(1)(D) of the Paperwork Reduction Act of 1995, the National Institutes of Health (NIH) has submitted to the Office of Management and Budget (OMB) a request for review and approval of the information collection listed below. This proposed information collection was previously published in the Federal Register on August 21, 2014, page 49523 and allowed 60 days for public comment. No public comments were received. The purpose of this notice is to request an additional 30 days for public comment and reinstatement without change. The Center for Scientific Review (CSR), National Institutes of Health, may not conduct or sponsor, and the respondent is not required to respond to, an information collection that has been extended, revised, or implemented on or after October 31, 2014, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30 days of the date of this publication.

FOR FURTHER INFORMATION CONTACT: To obtain a copy of the data collection plans and instruments, submit comments in writing, or request more information on the proposed project contact: Dr. Mary Ann Guadagno, Project Clearance Liaison, Center for Scientific Review, NIH, Room 3182, 6701 Rockledge Drive, Bethesda, MD 20892, or call non-toll-free number (301) 435-1251 or Email your request, including your address to: guadagma@csr.nih.gov. Formal requests for additional plans and instruments must be requested in writing.

Proposed Collection: Generic Clearance for Satisfaction Surveys of Customers (CSR), 0925-0474 expired October 31, 2014-reinstatement without change, Center for Scientific Review (CSR), National Institutes of Health (NIH).

Need and Use of Information Collection: The information collected in these surveys will be used by the Center for Scientific Review management and personnel: (1) To assess the quality of the modified operations and processes now used by CSR to review grant applications; (2) to assess the quality of service provided by CSR to our customers; (3) to enable identification of the most promising biomedical research that will have the greatest impact on improving public health by using a peer review process that is fair unbiased from outside influence, timely; and (4) to develop new modes of operation based on customer need and customer feedback about the efficacy of implemented modifications. These surveys will almost certainly lead to quality improvement activities to enhance and/or streamline CSR's operations. The major mechanism by which CSR will request input is through surveys. The major initiatives ongoing at the present time include: Evaluation of the peer review process, surveys of new and early stage investigators, satisfaction with study section meetings using alternative review platforms, quick feedback for peer review, satisfaction with new reviewer orientation sessions, teleworker space needs, improving study section alignment to ensure the best reviews, and others. Surveys will be collected via Internet or in focus groups. Information gathered from these surveys will be presented to, and used directly by, CSR management to enhance the operations, processes, organization of, and services provided by the Center.

OMB approval is requested for 3 years. There are no costs to respondents other than their time. The total estimated annualized burden hours are 4323.

Estimated Annualized Burden Hours
Form name | Type of respondent | Number of respondents | Number of responses per respondent | Average burden per response (in hours) | Total annual burden hours
A | Adult scientific professionals (via Mail/Telephone/Internet) | 7925 | 1 | 30/60 | 3963
B | Adult scientific professionals (via focus groups) | 240 | 1 | 90/60 | 360

Dated: December 10, 2014.
Mary Ann Guadagno,
Project Clearance Liaison, Center for Scientific Review, National Institutes of Health.

[FR Doc. 2014-29460 Filed 12-15-14; 8:45 am]

BILLING CODE 4140-01-P